DEPARTMENT OF ENERGY

Federal Energy Regulatory Commission

[Docket No. CP99-579-003]

Southern LNG Inc.; Notice of Revenue Report

December 10, 2004.

Take notice that on December 1, 2004, Southern LNG Inc., (SLNG) tendered for filing its cost and revenue information associated with the base reservation and commodity rates for terminal service at Elba Island.

Southern states that the information follows the Commission's regulations at 18 CFR 154.313 and is based on the twelve months ending on July 31, 2004, as adjusted. Southern states that it is not changing SLNG's current base rates, which were approved as recently as October 2002 in Docket No. RP02-129.

Southern states that the filing is being made in compliance with the Commission order issued on March 16, 2000 in this docket.

Any person desiring to protest this filing must file in accordance with Rule 211 of the Commission's Rules of Practice and Procedure (18 CFR 385.211). Protests to this filing will be considered by the Commission in determining the appropriate action to be taken, but will not serve to make protestants parties to the proceeding. Such protests must be filed on or before the date as indicated below. Anyone filing a protest must serve a copy of that document on all the parties to the proceeding.

The Commission encourages electronic submission of protests in lieu of paper using the “eFiling” link at http://www.ferc.gov. Persons unable to file electronically should submit an original and 14 copies of the protest to the Federal Energy Regulatory Commission, 888 First Street, NE., Washington, DC. 20426.

This filing is accessible on-line at http://www.ferc.gov, using the “eLibrary” link and is available for review in the Commission's Public Reference Room in Washington, DC. There is an “eSubscription” link on the Web site that enables subscribers to receive e-mail notification when a document is added to a subscribed docket(s). For assistance with any FERC Online service, please e-mail FERCOnlineSupport@ferc.gov, or call (866) 208-3676 (toll free). For TTY, call (202) 502-8659.

Protest Date: 5 p.m. Eastern Time on December 16, 2004.

Magalie R. Salas,
Secretary.

[FR Doc. E4-3691 Filed 12-16-04; 8:45 am]

BILLING CODE 6717-01-P